DEPARTMENT OF HOUSING AND URBAN DEVELOPMENT

[Docket No. FR-4910-N-05]

Notice of Proposed Information Collection for Public Comment; Financial Standards for Housing Agency-Owned Insurance Entities

AGENCY: Office of the Assistant Secretary for Public and Indian Housing, HUD.

ACTION: Notice.

SUMMARY: HUD will submit the proposal for collection of information described below to the Office of Management and Budget (OMB) for review, as required by the Paperwork Reduction Act. The Department will request this previously approved information collection be extended, and is soliciting public comments on the subject proposal.

DATES: Comments Due Date: April 30, 2004.

ADDRESSES: Interested persons are invited to submit comments regarding this proposal. Comments should refer to the proposal by name and/or OMB Control number and should be sent to: Sherry F. McCown, Acting Reports Liaison Officer, Public and Indian Housing, Department of Housing and Urban Development, 451 7th Street, SW., Room 4116, Washington, DC 20410-5000.

FOR FURTHER INFORMATION CONTACT: Sherry F. McCown, (202) 708-0614, extension 7651. (This is not a toll-free number).

SUPPLEMENTARY INFORMATION: The Department will request an extension of and submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Financial Standards for Housing Agency-Owned Insurance Entities.

OMB Control Number: 2577-0186.

Description of the Need for the Information and Proposed Use: Housing Authorities (HAs) can purchase insurance coverage when purchased from a nonprofit insurance entity owned and controlled by HAs which are approved by HUD. HA-owned insurance entities must submit certain documentation to HUD and also submit audit and actuarial reviews to HUD.

Agency Form Numbers, if Applicable:

Members of Affected Public: Business or other for-profit, State, local or tribal government.

Estimation of the Total Number of Hours Needed to Prepare the Information Collection Including Number of Respondents, Frequency of Response, and Hours of Response:

Frequency of Submission: Annually.

| Number of respondents | × | Frequency response | × | Hours per response | = | Burden hours
Reporting Burden | 19 |  | 1 |  | 10 |  | 190

Total Estimated Burden Hours: 190.

Status of the Proposed Information Collection: Extension.

Authority: Section 3506 of the Paperwork Reduction Act of 1995, 44 U.S.C. chapter 35, as amended.

Dated: February 24, 2004.
Michael Liu,
Assistant Secretary for Public and Indian Housing.

[FR Doc. 04-4479 Filed 2-27-04; 8:45 am]

BILLING CODE 4210-33-P